DEPARTMENT OF LABOR

Employment and Training Administration

[TA-W-65, 085]

Colorite Specialty Resins Burlington, NJ; Notice of Termination of Investigation

Pursuant to Section 221 of the Trade Act of 1974, as amended, an investigation was initiated on February 3, 2009 in response to a petition filed by the United Steelworkers of America, Local 4-890, on behalf of workers at Colorite Specialty Resins, Burlington, New Jersey.

The petitioner requested that the petition be withdrawn. Consequently, the investigation has been terminated.

Signed at Washington, DC, this 13th day of March 2009.
Richard Church,
Certifying Officer, Division of Trade Adjustment Assistance.

[FR Doc. E9-6524 Filed 3-24-09; 8:45 am]

BILLING CODE 4510-FN-P